CHEMICAL SAFETY AND HAZARD INVESTIGATION BOARD

Proposed Information Collection Activity: Proposed Collection; Comment Request

AGENCY: Chemical Safety and Hazard Investigation Board.

ACTION: Notice.

SUMMARY: The Chemical Safety and Hazard Investigation Board (CSB) is announcing an opportunity for public comment on the proposed collection of certain information by the agency. Under the Paperwork Reduction Act of 1995, Federal agencies are required to publish notice in the Federal Register concerning each proposed collection of information, and allow 60 days for public comment in response to the notice. This notice solicits comments on information needed to determine the effectiveness and usability of our written investigation products.

DATES: Written comments and recommendations on the proposed collection of information must be received by the CSB on or before September 29, 2006.

ADDRESSES: You may submit comments on the proposed collection of information by any of the following methods:

• E-mail: anna.johnson@csb.gov.

• Mail/courier/hand-delivery: U.S. Chemical Safety and Hazard Investigation Board, Attn: Anna M. Johnson, 2175 K Street, NW., Suite 400, Washington, DC 20037.

FOR FURTHER INFORMATION CONTACT: Requests for additional information or copies of the proposed information collection should be directed to Anna M. Johnson at (202) 261-7639 or FAX (202) 974-7639. Upon written request, you may obtain a copy of the proposed information collection at no charge.

SUPPLEMENTARY INFORMATION: Under the Paperwork Reduction Act of 1995 (PRA), 44 U.S.C. 3501-3521, Federal agencies must obtain approval from the Office of Management and Budget (OMB) for each collection of information they conduct or sponsor. This request for comment is being made pursuant to sec. 3506(c)(2)(A) of the PRA.

With respect to the following collection of information, CSB invites comments on: (1) Whether the proposed collection of information is necessary for the proper performance of CSB's functions, including whether the information will have practical utility; (2) the accuracy of CSB's estimate of the burden of the proposed collection of information; (3) ways to enhance the quality, utility, and clarity of the information to be collected; and (4) ways to minimize the burden of the collection of information on respondents, including through the use of automated collection techniques or the use of other forms of information technology.

Title: Chemical Safety Board Questionnaire.

OMB Control Number: Not yet assigned.

Type of Review: New collection of information.

Abstract: CSB online questionnaire will be used to collect feedback from readers of CSB investigation products. The general purpose of this voluntary collection of information is to obtain input on the quality and use of these products from readers.

Affected Public: Businesses, state, local, or tribal government, federal government, not for profit institutions, and for profit institutions.

Estimated number of respondents: 3500.

Estimated time per response: 10 minutes.

Frequency of response: Annual.

Estimated Annual Burden: 58 hours.

Authority: 44 U.S.C. 3506(c)(2)(A).

Dated: July 25, 2006.
Anna M. Johnson,
Director, Office of Administration.

[FR Doc. E6-12229 Filed 7-28-06; 8:45 am]

BILLING CODE 6350-01-P